DEPARTMENT OF COMMERCE

Submission for OMB Review: Comment Request

The Department of Commerce (DOC) has submitted to the Office of Management and Budget (OMB) for clearance of the following proposal for collection of information under the provisions of the Paperwork Reduction Act of 1995, Public Law 104-13.

Agency: International Trade Administration (ITA).

Title: Product Characteristics—Design Check-Off Lists.

Agency Form Number: ITA-426P.

OMB Approval Number: 0625-0035.

Type of Request: Regular submission.

Burden Hours: 1,000.

Number of Respondents: 2,000.

Average Hours Per Response: 30 minutes.

Needs and Uses: The International Trade Administration (ITA) sponsors up to 120 overseas trade fairs each fiscal year. Trade fairs involve U.S. firms exhibiting their goods and services at American pavilions at internationally recognized events worldwide. The Product Characteristics-Design Check-Off List seeks from participating firms information on the physical nature, power (utility) and graphic requirements of the products and services to be displayed, and to ensure the availability of utilities for active product demonstrations. This form also allows U.S. firms to identify special installation instructions that can be critical to the proper placement and hookup of their equipment and/or graphics. Without the timely and accurate submission of Form ITA-426P, Product Characteristics-Design Check-Off List, ITA would be unable to provide a pavilion facility that would effectively support the sales/marketing and presentation objectives of U.S. participants. The anticipated result would be diminished program productivity, then declining participation by U.S. firms. A second possible result would be reduced private sector funds and possibly the discontinuation of this type of U.S. international trade event program.

Affected Public: Business or other for profit organizations, and not-for-profit institutions.

Frequency: On occasion.

Respondent's Obligation: Voluntary; required to obtain or retain a benefit.

OMB Desk Officer: David Rostker, (202) 395-3897.

Copies of the above information collection proposal can be obtained by calling or writing Madeleine Clayton, Departmental Paperwork Clearance Officer, (202) 482-3129, Department of Commerce, Room 6608, 14th and Constitution, NW, Washington, DC 20230 or via the Internet at MClayton@doc.gov.

Written comments and recommendations for the proposed information collection should be sent to David Rostker, OMB Desk Officer, Room 10202, New Executive Office Building, Washington, DC 20503 within 30 days of the publication of this notice in the Federal Register.

Dated: March 13, 2002.
Gwellnar Banks,
Management Analyst, Office of the Chief Information Officer.

[FR Doc. 02-6522 Filed 3-18-02; 8:45 am]

BILLING CODE 3510-FP-P